DEPARTMENT OF HEALTH AND HUMAN SERVICES

Centers for Medicare & Medicaid Services

[Document Identifier: CMS-10215 and CMS-10416]

Agency Information Collection Activities: Submission for OMB Review; Comment Request

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

DATES: Comments on the collection(s) of information must be received by the OMB desk officer by April 7, 2014.

ADDRESSES: When commenting on the proposed information collections, please reference the document identifier or OMB control number. To be assured consideration, comments and recommendations must be received by the OMB desk officer via one of the following transmissions: OMB, Office of Information and Regulatory Affairs, Attention: CMS Desk Officer, Fax Number: (202) 395-5806 OR, Email: OIRA_submission@omb.eop.gov.

To obtain copies of a supporting statement and any related forms for the proposed collection(s) summarized in this notice, you may make your request using one of following:

1. Access CMS' Web site address at http://www.cms.hhs.gov/PaperworkReductionActof1995.

2. Email your request, including your address, phone number, OMB number, and CMS document identifier, to Paperwork@cms.hhs.gov.

3. Call the Reports Clearance Office at (410) 786-1326.

FOR FURTHER INFORMATION CONTACT: Reports Clearance Office at (410) 786-1326.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: Reinstatement without change of a previously approved collection; Title of Information Collection: Medicaid Payment for Prescription Drugs—Physicians and Hospital Outpatient Departments Collecting and Submitting Drug Identifying Information to State Medicaid Programs; Use: In accordance with the Deficit Act of 2005, states are required to provide for the collection and submission of utilization data for certain physician-administered drugs in order to receive federal financial participation for these drugs. Physicians, serving as respondents to states, submit National Drug Code numbers and utilization information for “J” code physician-administered drugs so that the states will have sufficient information to collect drug rebate dollars. Form Number: CMS-10215 (OCN: 0938-1026); Frequency: Weekly; Affected Public: Private sector—Business or other for-profits and Not-for-profit institutions; Number of Respondents: 20,000; Total Annual Responses: 3,910,000; Total Annual Hours: 16,227. (For policy questions regarding this collection contact Bernadette Leeds at 410-786-9463).

2. Type of Information Collection Request: Revision of a currently approved collection; Title of Information Collection: Blueprint for Approval of Affordable Health Insurance Marketplaces; Use: All states (including the 50 states, the territories, and the District of Columbia, herein referred to as “states”) had the opportunity under Section 1311(b) of the Affordable Care Act to establish an Exchange, also known as a “Marketplace”, no later than October 1, 2013 (Plan Year 2014). This current submission reduces the number of potential respondents due to various states electing to rely on the Federally-facilitated Marketplace (FFM). Also, at the time of the original request, the tool was partially paper-based. During the intervening time, we have developed the on-line implementation of the tool and will transition all future applications to that system.

States seeking to establish a Marketplace must build one that meets the requirements set out in Section 1311(d) of the Affordable Care Act and 45 CFR 155.105. In order to ensure that a State seeking approval as a State-based Marketplace, State-based SHOP Marketplace, or State Partnership Marketplace meet all applicable requirements, the Secretary will require a state to submit a Blueprint for approval and to demonstrate operational readiness through virtual or on-site readiness review. Form Number: CMS-10416 (OCN: 0938-1172); Frequency: Once; Affected Public: State, Local, or Tribal governments; Number of Respondents: 31; Number of Responses: 31; Total Annual Hours: 5,552. (For policy questions regarding this collection, contact Sarah Summer 301-492-4443.)

Dated: March 4, 2014.
Martique Jones,
Deputy Director, Regulations Development Group, Office of Strategic Operations and Regulatory Affairs.

[FR Doc. 2014-05000 Filed 3-6-14; 8:45 am]

BILLING CODE 4120-01-P